DEPARTMENT OF HEALTH AND HUMAN SERVICES

National Institutes of Health

Center for Scientific Review; Amended Notice of Meeting

Notice is hereby given of a change in the meeting of the Skeletal Biology Structure and Regeneration Study Section, June 3, 2007, 8 a.m. to June 5, 2007, 5 p.m. The Watergate, 2650 Virginia Avenue, NW., Washington, DC 20037 which was published in the Federal Register on May 9, 2007, 72 FR 26411-26412.

The meeting will be held June 4, 2007, 8 a.m. to June 5, 2007, 5 p.m. The meeting location remains the same. The meeting is closed to the public.

Dated: May 14, 2007.
Jennifer Spaeth,
Director, Office of Federal Advisory Committee Policy.

[FR Doc. 07-2485 Filed 5-18-07; 8:45 am]

BILLING CODE 4140-01-M